DEPARTMENT OF THE INTERIOR

Bureau of Indian Affairs

Indian Entities Recognized and Eligible To Receive Services From the United States Bureau of Indian Affairs

AGENCY: Bureau of Indian Affairs, Interior.

ACTION: Notice.

SUMMARY: This notice publishes the current list of 561 tribal entities recognized and eligible for funding and services from the Bureau of Indian Affairs by virtue of their status as Indian tribes. The list is updated from the notice published on November 25, 2005 (70 FR 71194).

FOR FURTHER INFORMATION CONTACT: Daisy West, Bureau of Indian Affairs, Division of Tribal Government Services, Mail Stop 4513-MIB, 1849 C Street, NW., Washington, DC 20240. Telephone number: (202) 513-7641.

SUPPLEMENTARY INFORMATION: This notice is published pursuant to Section 104 of the Act of November 2, 1994 (Pub. L. 103-454; 108 Stat. 4791, 4792), and in exercise of authority delegated to the Assistant Secretary—Indian Affairs under 25 U.S.C. 2 and 9 and 209 DM 8.

Published below is a list of federally acknowledged tribes in the contiguous 48 states and in Alaska.

The list does not include any additional new tribes. The updates are limited to several tribal name changes. To aid in identifying tribal name changes, the tribe's former name is included with the new tribal name. We will continue to list the tribe's former name for several years before dropping the former name from the list.

The listed entities are acknowledged to have the immunities and privileges available to other federally acknowledged Indian tribes by virtue of their government-to-government relationship with the United States as well as the responsibilities, powers, limitations and obligations of such tribes. We have continued the practice of listing the Alaska Native entities separately solely for the purpose of facilitating identification of them and reference to them given the large number of complex Native names.

Dated: March 7, 2007.
Michael D. Olsen,
Principal Deputy Assistant Secretary—Indian Affairs.

Indian Tribal Entities Within the Contiguous 48 States Recognized and Eligible To Receive Services From the United States Bureau of Indian Affairs

Absentee-Shawnee Tribe of Indians of Oklahoma

Agua Caliente Band of Cahuilla Indians of the Agua Caliente Indian Reservation, California

Ak Chin Indian Community of the Maricopa (Ak Chin) Indian Reservation, Arizona

Alabama-Coushatta Tribes of Texas

Alabama-Quassarte Tribal Town, Oklahoma

Alturas Indian Rancheria, California

Apache Tribe of Oklahoma

Arapahoe Tribe of the Wind River Reservation, Wyoming

Aroostook Band of Micmac Indians of Maine

Assiniboine and Sioux Tribes of the Fort Peck Indian Reservation, Montana

Augustine Band of Cahuilla Indians, California (formerly the Augustine Band of Cahuilla Mission Indians of the Augustine Reservation)

Bad River Band of the Lake Superior Tribe of Chippewa Indians of the Bad River Reservation, Wisconsin

Bay Mills Indian Community, Michigan

Bear River Band of the Rohnerville Rancheria, California

Berry Creek Rancheria of Maidu Indians of California

Big Lagoon Rancheria, California

Big Pine Band of Owens Valley Paiute Shoshone Indians of the Big Pine Reservation, California

Big Sandy Rancheria of Mono Indians of California

Big Valley Band of Pomo Indians of the Big Valley Rancheria, California

Blackfeet Tribe of the Blackfeet Indian Reservation of Montana

Blue Lake Rancheria, California

Bridgeport Paiute Indian Colony of California

Buena Vista Rancheria of Me-Wuk Indians of California

Burns Paiute Tribe of the Burns Paiute Indian Colony of Oregon

Cabazon Band of Mission Indians, California

Cachil DeHe Band of Wintun Indians of the Colusa Indian Community of the Colusa Rancheria, California

Caddo Nation of Oklahoma

Cahuilla Band of Mission Indians of the Cahuilla Reservation, California

Cahto Indian Tribe of the Laytonville Rancheria, California

California Valley Miwok Tribe, California (formerly the Sheep Ranch Rancheria of Me-Wuk Indians of California)

Campo Band of Diegueno Mission Indians of the Campo Indian Reservation, California

Capitan Grande Band of Diegueno Mission Indians of California:

Barona Group of Capitan Grande Band of Mission Indians of the Barona Reservation, California

Viejas (Baron Long) Group of Capitan Grande Band of Mission Indians of the Viejas Reservation, California

Catawba Indian Nation (aka Catawba Tribe of South Carolina)

Cayuga Nation of New York

Cedarville Rancheria, California

Chemehuevi Indian Tribe of the Chemehuevi Reservation, California

Cher-Ae Heights Indian Community of the Trinidad Rancheria, California

Cherokee Nation, Oklahoma

Cheyenne-Arapaho Tribes of Oklahoma

Cheyenne River Sioux Tribe of the Cheyenne River Reservation, South Dakota

Chickasaw Nation, Oklahoma

Chicken Ranch Rancheria of Me-Wuk Indians of California

Chippewa-Cree Indians of the Rocky Boy's Reservation, Montana

Chitimacha Tribe of Louisiana

Choctaw Nation of Oklahoma

Citizen Potawatomi Nation, Oklahoma

Cloverdale Rancheria of Pomo Indians of California

Cocopah Tribe of Arizona

Coeur D'Alene Tribe of the Coeur D'Alene Reservation, Idaho

Cold Springs Rancheria of Mono Indians of California

Colorado River Indian Tribes of the Colorado River Indian Reservation, Arizona and California

Comanche Nation, Oklahoma

Confederated Salish & Kootenai Tribes of the Flathead Reservation, Montana

Confederated Tribes of the Chehalis Reservation, Washington

Confederated Tribes of the Colville Reservation, Washington

Confederated Tribes of the Coos, Lower Umpqua and Siuslaw Indians of Oregon

Confederated Tribes of the Goshute Reservation, Nevada and Utah

Confederated Tribes of the Grand Ronde Community of Oregon

Confederated Tribes of the Siletz Reservation, Oregon

Confederated Tribes of the Umatilla Reservation, Oregon

Confederated Tribes of the Warm Springs Reservation of Oregon

Confederated Tribes and Bands of the Yakama Nation, Washington

Coquille Tribe of Oregon

Cortina Indian Rancheria of Wintun Indians of California

Coushatta Tribe of Louisiana

Cow Creek Band of Umpqua Indians of Oregon

Cowlitz Indian Tribe, Washington

Coyote Valley Band of Pomo Indians of California

Crow Tribe of Montana

Crow Creek Sioux Tribe of the Crow Creek Reservation, South Dakota

Death Valley Timbi-Sha Shoshone Band of California

Delaware Nation, Oklahoma

Dry Creek Rancheria of Pomo Indians of California

Duckwater Shoshone Tribe of the Duckwater Reservation, Nevada

Eastern Band of Cherokee Indians of North Carolina

Eastern Shawnee Tribe of Oklahoma

Elem Indian Colony of Pomo Indians of the Sulphur Bank Rancheria, California

Elk Valley Rancheria, California

Ely Shoshone Tribe of Nevada

Enterprise Rancheria of Maidu Indians of California

Ewiiaapaayp Band of Kumeyaay Indians, California

Federated Indians of Graton Rancheria, California

Flandreau Santee Sioux Tribe of South Dakota

Forest County Potawatomi Community, Wisconsin

Fort Belknap Indian Community of the Fort Belknap Reservation of Montana

Fort Bidwell Indian Community of the Fort Bidwell Reservation of California

Fort Independence Indian Community of Paiute Indians of the Fort Independence Reservation, California

Fort McDermitt Paiute and Shoshone Tribes of the Fort McDermitt Indian Reservation, Nevada and Oregon

Fort McDowell Yavapai Nation, Arizona

Fort Mojave Indian Tribe of Arizona, California & Nevada

Fort Sill Apache Tribe of Oklahoma

Gila River Indian Community of the Gila River Indian Reservation, Arizona

Grand Traverse Band of Ottawa and Chippewa Indians, Michigan

Greenville Rancheria of Maidu Indians of California

Grindstone Indian Rancheria of Wintun-Wailaki Indians of California

Guidiville Rancheria of California

Habematolel Pomo of Upper Lake, California (formerly the Upper Lake Band of Pomo Indians of Upper Lake Rancheria of California)

Hannahville Indian Community, Michigan

Havasupai Tribe of the Havasupai Reservation, Arizona

Ho-Chunk Nation of Wisconsin

Hoh Indian Tribe of the Hoh Indian Reservation, Washington

Hoopa Valley Tribe, California

Hopi Tribe of Arizona

Hopland Band of Pomo Indians of the Hopland Rancheria, California

Houlton Band of Maliseet Indians of Maine

Hualapai Indian Tribe of the Hualapai Indian Reservation, Arizona

Huron Potawatomi, Inc., Michigan

Inaja Band of Diegueno Mission Indians of the Inaja and Cosmit Reservation, California

Ione Band of Miwok Indians of California

Iowa Tribe of Kansas and Nebraska

Iowa Tribe of Oklahoma

Jackson Rancheria of Me-Wuk Indians of California

Jamestown S'Klallam Tribe of Washington

Jamul Indian Village of California

Jena Band of Choctaw Indians, Louisiana

Jicarilla Apache Nation, New Mexico

Kaibab Band of Paiute Indians of the Kaibab Indian Reservation, Arizona

Kalispel Indian Community of the Kalispel Reservation, Washington

Karuk Tribe of California

Kashia Band of Pomo Indians of the Stewarts Point Rancheria, California

Kaw Nation, Oklahoma

Keweenaw Bay Indian Community, Michigan

Kialegee Tribal Town, Oklahoma

Kickapoo Tribe of Indians of the Kickapoo Reservation in Kansas

Kickapoo Tribe of Oklahoma

Kickapoo Traditional Tribe of Texas

Kiowa Indian Tribe of Oklahoma

Klamath Tribes, Oregon (formerly the Klamath Indian Tribe of Oregon)

Kootenai Tribe of Idaho

La Jolla Band of Luiseno Mission Indians of the La Jolla Reservation, California

La Posta Band of Diegueno Mission Indians of the La Posta Indian Reservation, California

Lac Courte Oreilles Band of Lake Superior Chippewa Indians of Wisconsin

Lac du Flambeau Band of Lake Superior Chippewa Indians of the Lac du Flambeau Reservation of Wisconsin

Lac Vieux Desert Band of Lake Superior Chippewa Indians, Michigan

Las Vegas Tribe of Paiute Indians of the Las Vegas Indian Colony, Nevada

Little River Band of Ottawa Indians, Michigan

Little Traverse Bay Bands of Odawa Indians, Michigan

Lower Lake Rancheria, California

Los Coyotes Band of Cahuilla & Cupeno Indians of the Los Coyotes Reservation, California

Lovelock Paiute Tribe of the Lovelock Indian Colony, Nevada

Lower Brule Sioux Tribe of the Lower Brule Reservation, South Dakota

Lower Elwha Tribal Community of the Lower Elwha Reservation, Washington

Lower Sioux Indian Community in the State of Minnesota

Lummi Tribe of the Lummi Reservation, Washington

Lytton Rancheria of California

Makah Indian Tribe of the Makah Indian Reservation, Washington

Manchester Band of Pomo Indians of the Manchester-Point Arena Rancheria, California

Manzanita Band of Diegueno Mission Indians of the Manzanita Reservation, California

Mashantucket Pequot Tribe of Connecticut

Match-e-be-nash-she-wish Band of Pottawatomi Indians of Michigan

Mechoopda Indian Tribe of Chico Rancheria, California

Menominee Indian Tribe of Wisconsin

Mesa Grande Band of Diegueno Mission Indians of the Mesa Grande Reservation, California

Mescalero Apache Tribe of the Mescalero Reservation, New Mexico

Miami Tribe of Oklahoma

Miccosukee Tribe of Indians of Florida

Middletown Rancheria of Pomo Indians of California

Minnesota Chippewa Tribe, Minnesota (Six component reservations:

Bois Forte Band (Nett Lake); Fond du Lac Band; Grand Portage Band; Leech Lake Band; Mille Lacs Band; White Earth Band)

Mississippi Band of Choctaw Indians, Mississippi

Moapa Band of Paiute Indians of the Moapa River Indian Reservation, Nevada

Modoc Tribe of Oklahoma

Mohegan Indian Tribe of Connecticut

Mooretown Rancheria of Maidu Indians of California

Morongo Band of Cahuilla Mission Indians of the Morongo Reservation, California

Muckleshoot Indian Tribe of the Muckleshoot Reservation, Washington Muscogee (Creek) Nation, Oklahoma

Narragansett Indian Tribe of Rhode Island

Navajo Nation, Arizona, New Mexico & Utah

Nez Perce Tribe of Idaho

Nisqually Indian Tribe of the Nisqually Reservation, Washington

Nooksack Indian Tribe of Washington

Northern Cheyenne Tribe of the Northern Cheyenne Indian Reservation, Montana

Northfork Rancheria of Mono Indians of California

Northwestern Band of Shoshoni Nation of Utah (Washakie)

Oglala Sioux Tribe of the Pine Ridge Reservation, South Dakota

Ohkay Owingeh, New Mexico (formerly the Pueblo of San Juan)

Omaha Tribe of Nebraska

Oneida Nation of New York

Oneida Tribe of Indians of Wisconsin

Onondaga Nation of New York

Osage Tribe, Oklahoma

Ottawa Tribe of Oklahoma

Otoe-Missouria Tribe of Indians, Oklahoma

Paiute Indian Tribe of Utah (Cedar City Band of Paiutes, Kanosh Band of Paiutes, Koosharem Band of Paiutes, Indian Peaks Band of Paiutes, and Shivwits Band of Paiutes)

Paiute-Shoshone Indians of the Bishop Community of the Bishop Colony, California

Paiute-Shoshone Tribe of the Fallon Reservation and Colony, Nevada

Paiute-Shoshone Indians of the Lone Pine Community of the Lone Pine Reservation, California

Pala Band of Luiseno Mission Indians of the Pala Reservation, California

Pascua Yaqui Tribe of Arizona

Paskenta Band of Nomlaki Indians of California

Passamaquoddy Tribe of Maine

Pauma Band of Luiseno Mission Indians of the Pauma & Yuima Reservation, California

Pawnee Nation of Oklahoma

Pechanga Band of Luiseno Mission Indians of the Pechanga Reservation, California

Penobscot Tribe of Maine

Peoria Tribe of Indians of Oklahoma

Picayune Rancheria of Chukchansi Indians of California

Pinoleville Pomo Nation, California (formerly the Pinoleville Rancheria of Pomo Indians of California)

Pit River Tribe, California (includes XL Ranch, Big Bend, Likely, Lookout, Montgomery Creek and Roaring Creek Rancherias)

Poarch Band of Creek Indians of Alabama

Pokagon Band of Potawatomi Indians, Michigan and Indiana

Ponca Tribe of Indians of Oklahoma

Ponca Tribe of Nebraska

Port Gamble Indian Community of the Port Gamble Reservation, Washington

Potter Valley Tribe, California (formerly the Potter Valley Rancheria of Pomo Indians of California)

Prairie Band of Potawatomi Nation, Kansas

Prairie Island Indian Community in the State of Minnesota

Pueblo of Acoma, New Mexico

Pueblo of Cochiti, New Mexico

Pueblo of Jemez, New Mexico

Pueblo of Isleta, New Mexico

Pueblo of Laguna, New Mexico

Pueblo of Nambe, New Mexico

Pueblo of Picuris, New Mexico

Pueblo of Pojoaque, New Mexico

Pueblo of San Felipe, New Mexico

Pueblo of San Ildefonso, New Mexico

Pueblo of Sandia, New Mexico

Pueblo of Santa Ana, New Mexico

Pueblo of Santa Clara, New Mexico

Pueblo of Santo Domingo, New Mexico

Pueblo of Taos, New Mexico

Pueblo of Tesuque, New Mexico

Pueblo of Zia, New Mexico

Puyallup Tribe of the Puyallup Reservation, Washington

Pyramid Lake Paiute Tribe of the Pyramid Lake Reservation, Nevada

Quapaw Tribe of Indians, Oklahoma

Quartz Valley Indian Community of the Quartz Valley Reservation of California

Quechan Tribe of the Fort Yuma Indian Reservation, California & Arizona

Quileute Tribe of the Quileute Reservation, Washington

Quinault Tribe of the Quinault Reservation, Washington

Ramona Band or Village of Cahuilla Mission Indians of California

Red Cliff Band of Lake Superior Chippewa Indians of Wisconsin

Red Lake Band of Chippewa Indians, Minnesota

Redding Rancheria, California

Redwood Valley Rancheria of Pomo Indians of California

Reno-Sparks Indian Colony, Nevada

Resighini Rancheria, California

Rincon Band of Luiseno Mission Indians of the Rincon Reservation, California

Robinson Rancheria of Pomo Indians of California

Rosebud Sioux Tribe of the Rosebud Indian Reservation, South Dakota

Round Valley Indian Tribes of the Round Valley Reservation, California

Rumsey Indian Rancheria of Wintun Indians of California

Sac & Fox Tribe of the Mississippi in Iowa

Sac & Fox Nation of Missouri in Kansas and Nebraska

Sac & Fox Nation, Oklahoma

Saginaw Chippewa Indian Tribe of Michigan

St. Croix Chippewa Indians of Wisconsin

Saint Regis Mohawk Tribe, New York (formerly the St. Regis Band of Mohawk Indians of New York)

Salt River Pima-Maricopa Indian Community of the Salt River Reservation, Arizona

Samish Indian Tribe, Washington

San Carlos Apache Tribe of the San Carlos Reservation, Arizona

San Juan Southern Paiute Tribe of Arizona

San Manual Band of Serrano Mission Indians of the San Manual Reservation, California

San Pasqual Band of Diegueno Mission Indians of California

Santa Rosa Indian Community of the Santa Rosa Rancheria, California

Santa Rosa Band of Cahuilla Indians, California (formerly the Santa Rosa Band of Cahuilla Mission Indians of the Santa Rosa Reservation)

Santa Ynez Band of Chumash Mission Indians of the Santa Ynez Reservation, California

Santa Ysabel Band of Diegueno Mission Indians of the Santa Ysabel Reservation, California

Santee Sioux Nation, Nebraska

Sauk-Suiattle Indian Tribe of Washington

Sault Ste. Marie Tribe of Chippewa Indians of Michigan

Scotts Valley Band of Pomo Indians of California

Seminole Nation of Oklahoma

Seminole Tribe of Florida (Dania, Big Cypress, Brighton, Hollywood & Tampa Reservations)

Seneca Nation of New York

Seneca-Cayuga Tribe of Oklahoma

Shakopee Mdewakanton Sioux Community of Minnesota

Shawnee Tribe, Oklahoma

Sherwood Valley Rancheria of Pomo Indians of California

Shingle Springs Band of Miwok Indians, Shingle Springs Rancheria (Verona Tract), California

Shoalwater Bay Tribe of the Shoalwater Bay Indian Reservation, Washington

Shoshone Tribe of the Wind River Reservation, Wyoming

Shoshone-Bannock Tribes of the Fort Hall Reservation of Idaho

Shoshone-Paiute Tribes of the Duck Valley Reservation, Nevada

Sisseton-Wahpeton Oyate of the Lake Traverse Reservation, South Dakota

Skokomish Indian Tribe of the Skokomish Reservation, Washington

Skull Valley Band of Goshute Indians of Utah

Smith River Rancheria, California

Snoqualmie Tribe, Washington

Soboba Band of Luiseno Indians, California

Sokaogon Chippewa Community, Wisconsin

Southern Ute Indian Tribe of the Southern Ute Reservation, Colorado

Spirit Lake Tribe, North Dakota

Spokane Tribe of the Spokane Reservation, Washington

Squaxin Island Tribe of the Squaxin Island Reservation, Washington

Standing Rock Sioux Tribe of North & South Dakota

Stockbridge Munsee Community, Wisconsin

Stillaguamish Tribe of Washington

Summit Lake Paiute Tribe of Nevada

Suquamish Indian Tribe of the Port Madison Reservation, Washington

Susanville Indian Rancheria, California

Swinomish Indians of the Swinomish Reservation, Washington

Sycuan Band of the Kumeyaay Nation (formerly the Sycuan Band of Diegueno Mission Indians of California)

Table Mountain Rancheria of California

Te-Moak Tribe of Western Shoshone Indians of Nevada (Four constituent bands: Battle Mountain Band; Elko Band; South Fork Band and Wells Band)

Thlopthlocco Tribal Town, Oklahoma

Three Affiliated Tribes of the Fort Berthold Reservation, North Dakota

Tohono O'odham Nation of Arizona

Tonawanda Band of Seneca Indians of New York

Tonkawa Tribe of Indians of Oklahoma

Tonto Apache Tribe of Arizona

Torres Martinez Desert Cahuilla Indians, California (formerly the Torres-Martinez Band of Cahuilla Mission Indians of California)

Tule River Indian Tribe of the Tule River Reservation, California

Tulalip Tribes of the Tulalip Reservation, Washington

Tunica-Biloxi Indian Tribe of Louisiana

Tuolumne Band of Me-Wuk Indians of the Tuolumne Rancheria of California

Turtle Mountain Band of Chippewa Indians of North Dakota

Tuscarora Nation of New York

Twenty-Nine Palms Band of Mission Indians of California

United Auburn Indian Community of the Auburn Rancheria of California

United Keetoowah Band of Cherokee Indians in Oklahoma

Upper Sioux Community, Minnesota

Upper Skagit Indian Tribe of Washington

Ute Indian Tribe of the Uintah & Ouray Reservation, Utah

Ute Mountain Tribe of the Ute Mountain Reservation, Colorado, New Mexico & Utah

Utu Utu Gwaitu Paiute Tribe of the Benton Paiute Reservation, California

Walker River Paiute Tribe of the Walker River Reservation, Nevada

Wampanoag Tribe of Gay Head (Aquinnah) of Massachusetts

Washoe Tribe of Nevada & California (Carson Colony, Dresslerville Colony, Woodfords Community, Stewart Community, & Washoe Ranches)

White Mountain Apache Tribe of the Fort Apache Reservation, Arizona

Wichita and Affiliated Tribes (Wichita, Keechi, Waco & Tawakonie), Oklahoma

Winnebago Tribe of Nebraska

Winnemucca Indian Colony of Nevada

Wiyot Tribe, California (formerly the Table Bluff Reservation—Wiyot Tribe)

Wyandotte Nation, Oklahoma

Yankton Sioux Tribe of South Dakota

Yavapai-Apache Nation of the Camp Verde Indian Reservation, Arizona

Yavapai-Prescott Tribe of the Yavapai Reservation, Arizona

Yerington Paiute Tribe of the Yerington Colony & Campbell Ranch, Nevada

Yomba Shoshone Tribe of the Yomba Reservation, Nevada

Ysleta Del Sur Pueblo of Texas

Yurok Tribe of the Yurok Reservation, California

Zuni Tribe of the Zuni Reservation, New Mexico

Native Entities Within the State of Alaska Recognized and Eligible To Receive Services From the United States Bureau of Indian Affairs

Native Village of Afognak (formerly the Village of Afognak)

Agdaagux Tribe of King Cove

Native Village of Akhiok

Akiachak Native Community

Akiak Native Community

Native Village of Akutan

Village of Alakanuk

Alatna Village

Native Village of Aleknagik

Algaaciq Native Village (St. Mary's)

Allakaket Village

Native Village of Ambler

Village of Anaktuvuk Pass

Yupiit of Andreafski

Angoon Community Association

Village of Aniak

Anvik Village

Arctic Village (See Native Village of Venetie Tribal Government)

Asa'carsarmiut Tribe

Native Village of Atka

Village of Atmautluak

Atqasuk Village (Atkasook)

Native Village of Barrow Inupiat Traditional Government

Beaver Village

Native Village of Belkofski

Village of Bill Moore's Slough

Birch Creek Tribe

Native Village of Brevig Mission

Native Village of Buckland

Native Village of Cantwell

Native Village of Chenega (aka Chanega)

Chalkyitsik Village

Cheesh-Na Tribe (formerly the Native Village of Chistochina)

Village of Chefornak

Chevak Native Village

Chickaloon Native Village

Chignik Bay Tribal Council (formerly the Native Village of Chignik)

Native Village of Chignik Lagoon

Chignik Lake Village

Chilkat Indian Village (Klukwan)

Chilkoot Indian Association (Haines)

Chinik Eskimo Community (Golovin)

Native Village of Chitina

Native Village of Chuathbaluk (Russian Mission, Kuskokwim)

Chuloonawick Native Village

Circle Native Community

Village of Clarks Point

Native Village of Council

Craig Community Association

Village of Crooked Creek

Curyung Tribal Council

Native Village of Deering

Native Village of Diomede (aka Inalik)

Village of Dot Lake

Douglas Indian Association

Native Village of Eagle

Native Village of Eek

Egegik Village

Eklutna Native Village

Native Village of Ekuk

Ekwok Village

Native Village of Elim

Emmonak Village

Evansville Village (aka Bettles Field)

Native Village of Eyak (Cordova)

Native Village of False Pass

Native Village of Fort Yukon

Native Village of Gakona

Galena Village (aka Louden Village)

Native Village of Gambell

Native Village of Georgetown

Native Village of Goodnews Bay

Organized Village of Grayling (aka Holikachuk)

Gulkana Village

Native Village of Hamilton

Healy Lake Village

Holy Cross Village

Hoonah Indian Association

Native Village of Hooper Bay

Hughes Village

Huslia Village

Hydaburg Cooperative Association

Igiugig Village

Village of Iliamna

Inupiat Community of the Arctic Slope

Iqurmuit Traditional Council (formerly the Native Village of Russian Mission)

Ivanoff Bay Village

Kaguyak Village

Organized Village of Kake

Kaktovik Village (aka Barter Island)

Village of Kalskag

Village of Kaltag

Native Village of Kanatak

Native Village of Karluk

Organized Village of Kasaan

Kasigluk Traditional Elders Council (formerly the Native Village of Kasigluk)

Kenaitze Indian Tribe

Ketchikan Indian Corporation

Native Village of Kiana

King Island Native Community

King Salmon Tribe

Native Village of Kipnuk

Native Village of Kivalina

Klawock Cooperative Association

Native Village of Kluti Kaah (aka Copper Center)

Knik Tribe

Native Village of Kobuk

Kokhanok Village

Native Village of Kongiganak

Village of Kotlik

Native Village of Kotzebue

Native Village of Koyuk

Koyukuk Native Village

Organized Village of Kwethluk

Native Village of Kwigillingok

Native Village of Kwinhagak (aka Quinhagak)

Native Village of Larsen Bay

Levelock Village

Lesnoi Village (aka Woody Island)

Lime Village

Village of Lower Kalskag

Manley Hot Springs Village

Manokotak Village

Native Village of Marshall (aka Fortuna Ledge)

Native Village of Mary's Igloo

McGrath Native Village

Native Village of Mekoryuk

Mentasta Traditional Council

Metlakatla Indian Community, Annette Island Reserve

Native Village of Minto

Naknek Native Village

Native Village of Nanwalek (aka English Bay)

Native Village of Napaimute

Native Village of Napakiak

Native Village of Napaskiak

Native Village of Nelson Lagoon

Nenana Native Association

New Koliganek Village Council

New Stuyahok Village

Newhalen Village

Newtok Village

Native Village of Nightmute

Nikolai Village

Native Village of Nikolski

Ninilchik Village

Native Village of Noatak

Nome Eskimo Community

Nondalton Village

Noorvik Native Community

Northway Village

Native Village of Nuiqsut (aka Nooiksut)

Nulato Village

Nunakauyarmiut Tribe (formerly the Native Village of Toksook Bay)

Native Village of Nunam Iqua (formerly the Native Village of Sheldon's Point)

Native Village of Nunapitchuk

Village of Ohogamiut

Village of Old Harbor

Orutsararmuit Native Village (aka Bethel)

Oscarville Traditional Village

Native Village of Ouzinkie

Native Village of Paimiut

Pauloff Harbor Village

Pedro Bay Village

Native Village of Perryville

Petersburg Indian Association

Native Village of Pilot Point

Pilot Station Traditional Village

Native Village of Pitka's Point

Platinum Traditional Village

Native Village of Point Hope

Native Village of Point Lay

Native Village of Port Graham

Native Village of Port Heiden

Native Village of Port Lions

Portage Creek Village (aka Ohgsenakale)

Pribilof Islands Aleut Communities of St. Paul & St. George Islands

Qagan Tayagungin Tribe of Sand Point Village

Qawalangin Tribe of Unalaska

Rampart Village

Village of Red Devil

Native Village of Ruby

Saint George Island (See Pribilof Islands Aleut Communities of St. Paul & St. George Islands)

Native Village of Saint Michael

Saint Paul Island (See Pribilof Islands Aleut Communities of St. Paul & St. George Islands)

Village of Salamatoff

Native Village of Savoonga

Organized Village of Saxman

Native Village of Scammon Bay

Native Village of Selawik

Seldovia Village Tribe

Shageluk Native Village

Native Village of Shaktoolik

Native Village of Shishmaref

Native Village of Shungnak

Sitka Tribe of Alaska

Skagway Village

Village of Sleetmute

Village of Solomon

South Naknek Village

Stebbins Community Association

Native Village of Stevens

Village of Stony River

Sun'aq Tribe of Kodiak (formerly the Shoonaq' Tribe of Kodiak)

Takotna Village

Native Village of Tanacross

Native Village of Tanana

Native Village of Tatitlek

Native Village of Tazlina

Telida Village

Native Village of Teller

Native Village of Tetlin

Central Council of the Tlingit & Haida Indian Tribes

Traditional Village of Togiak

Tuluksak Native Community

Native Village of Tuntutuliak

Native Village of Tununak

Twin Hills Village

Native Village of Tyonek

Ugashik Village

Umkumiute Native Village

Native Village of Unalakleet

Native Village of Unga

Village of Venetie (See Native Village of Venetie Tribal Government)

Native Village of Venetie Tribal Government (Arctic Village and Village of Venetie)

Village of Wainwright

Native Village of Wales

Native Village of White Mountain

Wrangell Cooperative Association

Yakutat Tlingit Tribe

[FR Doc. E7-5220 Filed 3-21-07; 8:45 am]

BILLING CODE 4310-4J-P